DEPARTMENT OF LABOR

Employment and Training Administration

[TA-W-59,122]

LeSportSac Inc., Dandridge, TN; Notice of Termination of Investigation

Pursuant to section 221 of the Trade Act of 1974, as amended, an investigation was initiated on March 30, 2006, in response to a petition filed by a company official on behalf of workers at LeSportSac Inc., Dandridge, Tennessee.

The petitioner has requested that the petition be withdrawn. Consequently, the investigation has been terminated.

Signed at Washington, DC, this 14th day of April, 2006.
Linda G. Poole,
Certifying Officer, Division of Trade Adjustment Assistance.

[FR Doc. E6-6846 Filed 5-4-06; 8:45 am]

BILLING CODE 4510-30-P